DEPARTMENT OF THE INTERIOR

Fish and Wildlife Service

[FWS-R8-ES-2017-N053]; [FF08ESMF00-FXES11140800000-178]

Joint Draft Environmental Impact Statement and Environmental Impact Report, Joint Draft Habitat Conservation Plan and Natural Community Conservation Plan; Yolo County, California

AGENCY: Fish and Wildlife Service, Interior.

ACTION: Notice of availability of permit application; request for comment.

SUMMARY: We, the U.S. Fish and Wildlife Service, announce the availability of a joint draft environmental impact statement and draft environmental impact report (draft EIS/EIR) under the National Environmental Policy Act of 1967, as amended. We also announce receipt of applications for an incidental take permit under the Endangered Species Act of 1973, as amended, and receipt of a draft habitat conservation plan and natural community conservation plan.

DATES: Submitting Comments: To ensure consideration, written comments must be received by August 30, 2017.

Public Meetings: Two public meetings will be held:

1. Tuesday, June 27, 2017; 1:00-3:00 p.m., Yolo County Board of Supervisors Chambers, 625 Court Street, Room 206, Woodland, California, 95695.

2. Thursday, June 29, 2017; 6:30-8:30 p.m., Davis Senior Center, 646 A Street, Davis, California, 95616.

ADDRESSES: Submitting Comments: Please address written comments to Mike Thomas, Chief, Conservation Planning Division; or Eric Tattersall, Assistant Field Supervisor, by mail/hand-delivery at U.S. Fish and Wildlife Service, Sacramento Fish and Wildlife Office, 2800 Cottage Way, W-2605, Sacramento, California 95825; or by facsimile to (916) 414-6713. You may telephone (916) 414-6600 to make an appointment during regular business hours to drop off comments at the Sacramento Fish and Wildlife Office.

Please send comments related specifically to the California Environmental Quality Act (CEQA) process to Petrea Marchand, Executive Director, Yolo Habitat Conservancy, 611 North Street, Woodland, CA 95695.

Reviewing Documents: You may obtain electronic copies of the draft habitat conservation plan and natural community conservation plan and draft EIS/EIR from the Sacramento Fish and Wildlife Office Web site at http://www.fws.gov/sacramento or the Yolo Habitat Conservancy's Web site at http://www.yolohabitatconservancy.org. Copies of these documents are also available for public inspection, by appointment, during regular business hours, at the Sacramento Fish and Wildlife Office and at the following libraries: Mary L. Stephens Davis Library, 315 E. 14th Street, Davis, California 95616; Arthur F. Turner Community Library, 1212 Merkley Avenue, West Sacramento, California 95691; Woodland Public Library, 250 1st Street, Woodland, California 95695; Winters Community Library, 708 Railroad Avenue, Winters, California 95694; and the Yolo Branch Library, 37750 Sacramento Street, Yolo, California 95697.

FOR FURTHER INFORMATION CONTACT: Mike Thomas, Chief, Conservation Planning Division; or Eric Tattersall, Assistant Field Supervisor, at the Sacramento Fish and Wildlife Office address above or at (916) 414-6600 (telephone). If you use a telecommunications device for the deaf, please call the Federal Relay Service at (800) 877-8339.

SUPPLEMENTARY INFORMATION: This notice advises the public that we, the U.S. Fish and Wildlife Service (Service), announce the availability of a draft EIS/EIR, prepared pursuant to the National Environmental Policy Act of 1967, as amended (42 U.S.C. 4321 et seq.; NEPA), and its implementing regulations in the Code of Federal Regulations (CFR) at 40 CFR 1506.6.

This notice also announces the receipt of applications from the Yolo Habitat Conservancy, County of Yolo, and the cities of Davis, West Sacramento, Winters, and Woodland (collectively applicants), for a 50-year incidental take permit (ITP) under the Endangered Species Act of 1973, as amended (16 U.S.C. 1531 et seq.; Act). The applicants prepared the draft Yolo Habitat Conservation Plan and Natural Community Conservation Plan (Draft Plan) pursuant to section 10(a)(1)(B) of the Act and the California Natural Community Conservation Planning Act of 2002 (NCCPA). The applicants are requesting the authorization of incidental take for 12 covered species that could result from activities covered under the Draft Plan.

Background Information

Section 9 of the Act (16 U.S.C. 1531-1544 et seq.) and Federal regulations (50 CFR 17) prohibit the taking of fish and wildlife species listed as endangered or threatened under section 4 of the Act. Regulations governing permits for endangered and threatened species are at 50 CFR 17.22 and 17.32. For more about the Federal habitat conservation plan (HCP) program, go to http://www.fws.gov/endangered/esa-library/pdf/hcp.pdf.

Proposed Action Alternative

The Service would issue an ITP to the applicants for a period of 50 years for certain covered activities (described below). The applicants have requested an ITP for 12 covered species (described below), 11 animals and 1 plant, of which, 5 animals and 1 plant are currently listed as threatened or endangered under the Act.

Plan Area

The geographic scope of the Draft Plan includes all lands within Yolo County, totaling approximately 653,549 acres, and 1,174 acres in Solano County on the south side of Putah Creek, for a total combined area of 654,723 acres (Plan Area).

Covered Activities

The proposed section 10 ITP would allow take of 12 covered species resulting from certain covered activities in the proposed Plan Area. The applicants are requesting incidental take authorization for these 12 covered species that could be affected by activities identified in the Draft Plan. The Draft Plan covers the following five general categories of covered activities (collectively, Covered Activities):

1. Urban projects and activities, which include general urban development, urban public services, infrastructure, and utilities, and urban projects in rural areas.

2. Rural projects and activities, which include general rural development, rural public services, infrastructure, and utilities, agricultural economic development, aggregate mining, and open space.

3. Public and private operations and maintenance activities.

4. Conservation strategy implementation, which includes habitat restoration, management, and enhancement activities throughout the reserve system.

5. Neighboring landowner agreements.

Covered Species

Covered species are those 12 species addressed in the Draft Plan for which conservation actions will be implemented and for which the applicants are seeking an ITP for a period of 50 years. Proposed covered species include those listed as threatened or endangered under the Act, species listed under the California Endangered Species Act (CESA), as well as currently unlisted species that have the potential to become listed during the life of the Draft Plan.

The following federally listed threatened and endangered wildlife species are proposed to be covered by the Draft Plan: Threatened California tiger salamander (Central Distinct Population Segment (DPS)) (Amystoma californiense), threatened Valley elderberry longhorn beetle (Desmocerus californicaus dimorphus), threatened giant garter snake (Thamnophis gigas), threatened western yellow-billed cuckoo (Coccyzus americanus occidentalis), and endangered Least Bell's vireo (Vireo belli pusillus). The following non-listed wildlife species are also proposed to be covered by the Draft Plan: Western pond turtle (Actinemys marmorata), Swainson's hawk (Buteo swainsoni), white-tailed kite (Elanus leucurus), western burrowing owl (Athene cunicularia hypugaea), bank swallow (Riparia riparia), and tricolored blackbird (Agelaius tricolor). One federally listed plant species, the endangered palmate-bracted bird's beak (Chloropyron palmatum), is also proposed to be covered by the Draft Plan, in recognition of the conservation benefits provided for it in the Draft Plan. Collectively, these 12 species comprise the Covered Species addressed by the Draft Plan. All species included on the ITP would receive assurances under the Service's “No Surprises” regulations found in 50 CFR 17.22(b)(5) and 17.32(b)(5).

Take of federally listed plant species is not prohibited on non-Federal land under the Act, and cannot be authorized under a section 10 permit, but one plant species is included in the Draft Plan and proposed to be included on the ITP in recognition of the conservation benefits provided for it under the Draft Plan and because of the assurances the applicants would receive if it is included on the ITP.

National Environmental Policy Act Compliance

The draft EIS/EIR was prepared to analyze the impacts of issuing an ITP based on the Draft Plan and to inform the public of the proposed action, alternatives, and associated impacts and to disclose any irreversible commitments of resources.

The proposed permit issuance triggers the need for compliance with NEPA. For the purposes of NEPA, the Proposed Action Alternative presented in the Draft EIS/EIR is compared to the No-Action Alternative. The No-Action Alternative represents estimated future conditions to which the Proposed Action's estimated future conditions can be compared. For purposes of the California Environmental Quality Act the proposed action alternative is compared to existing conditions.

The Service published a notice of intent (NOI) to prepare a joint environmental impact statement and environmental impact report in the Federal Register on October 21, 2011 (76 FR 65527). The NOI announced a 45-day public scoping period, during which the public was invited to provide written comments and attend two public scoping meetings, which were held on November 7, 2011, in West Sacramento, California.

No-Action Alternative

Under the No-Action Alternative, the Service would not issue an ITP to the Applicants, and the Draft Plan would not be implemented. Under this alternative, individual projects carried out by or approved by one or more of the applicants that may adversely affect federally listed species would require project-level consultation with the Service pursuant to section 7 or section 10 of the Act. Because the applicants and private developers would generate environmental documentation and apply for permits on a project-by-project basis, there would not be a comprehensive program to coordinate and standardize mitigation requirements of the Act within the Plan Area.

Reduced Take Alternative

The Reduced Take Alternative would include the same categories of covered activities as the Proposed Action Alternative; however, under this Alternative, eight geographic areas designated for development under the Proposed Action Alternative that would result in take of Covered Species would not be permitted. These locations are in the vicinity of Clarksburg, Davis, the Dunnigan Specific Plan, West Sacramento, and Woodland (see Exhibit 2-6 in the EIS/EIR), and include approximately 1,335 acres. Other than assuming that no take of Covered Species would occur in the 1,335 acres, the Reduced Take Alternative also assumes that the 1,335 acres of development could be displaced to another location under the same take restriction as the Proposed Action Alternative; all other elements of the Draft Plan (e.g., Covered Species and Covered Activities) remain the same under the Reduced Take Alternative.

Reduced Development Alternative

The Reduced Development Alternative would include the same categories of covered activities as the Proposed Action Alternative; however, under this Alternative, development within a portion of the west side of the Dunnigan Specific Plan Area, and the Elkhorn Specific Plan Area, are assumed to not be included in the Covered Activities. The portion of the Dunnigan Specific Plan selected for exclusion from Covered Activities under this Alternative covers approximately 1,012 acres, and the Elkhorn Specific Plan Area covers approximately 383 acres. In each of these two areas, it is assumed that some type of development could potentially occur within the 50-year term of the permit. If such development were to occur, it would not be considered a Covered Activity under the HCP; therefore, the HCP would not be available as a mechanism to address affects to Covered Species. Any permitting required for compliance with the Act for future development would be undertaken for each of these two areas individually on a project-by-project basis. Permitting and mitigation would be implemented in a manner similar to under the No Action Alternative. Other than characteristics described above, all other elements of the Draft Plan (e.g., Covered Species and Covered Activities) remain the same under the Reduced Development Alternative.

Public Comments

We request data, comments, new information, or suggestions from the public, other concerned governmental agencies, the scientific community, Tribes, industry, or any other interested party on this notice, the draft EIS/EIR, and draft Plan. We particularly seek comments on the following:

1. Biological information concerning the species;

2. Relevant data concerning the species;

3. Additional information concerning the range, distribution, population size, and population trends of the species;

4. Current or planned activities in the subject area and their possible impacts on the species;

5. The presence of archeological sites, buildings and structures, historic events, sacred and traditional areas, and other historic preservation concerns, which are required to be considered in project planning by the National Historic Preservation Act; and

6. Identification of any other environmental issues that should be considered with regard to the proposed development and permit action.

You may submit your comments and materials by one of the methods listed in the ADDRESSES section. Comments and materials we receive will be available for public inspection by appointment, during normal business hours (Monday through Friday, 8 a.m. to 4:30 p.m.) at the Service's Sacramento address (see ADDRESSES).

Public Availability of Comments

Before including your address, phone number, or other personal identifying information in your comment, you should be aware that your entire comment—including your personal identifying information—might be made publicly available at any time. While you can ask us in your comment to withhold your personal identifying information from public review, we cannot guarantee that we will be able to do so.

Next Steps

Issuance of an incidental take permit is a Federal proposed action subject to compliance with NEPA. We will evaluate the application, associated documents, and any public comments we receive to determine whether the application meets the requirements of NEPA regulations and section 10(a) of the Act. If we determine that those requirements are met, we will issue permits to the applicants for the incidental take of the Covered Species. A permit decision will be made no sooner than 30 days after the publication of the notice of availability for the final Plan, final EIS/EIR, and completion of the Record of Decision.

Authority

We publish this notice under the National Environmental Policy Act of 1969, as amended (42 U.S.C. 4321-4347 et seq.), and its implementing regulations at 40 CFR 1500-1508, as well as in compliance with section 10(c) of the Endangered Species Act (16 U.S.C. 1531-1544 et seq.) and its implementing regulations at 40 CFR 17.22.

Michael Fris,
Assistant Regional Director, U.S. Fish and Wildlife Service, Pacific Southwest Region, Sacramento, California.

[FR Doc. 2017-11295 Filed 5-31-17; 8:45 am]

BILLING CODE 43330-15-P